DEPARTMENT OF HOMELAND SECURITY

Bureau of Customs and Border Protection

Notice of Cancellation of Customs Broker License

AGENCY: Bureau of Customs and Border Protection, Department of Homeland Security.

ACTION: General notice.

SUMMARY: Pursuant to section 641 of the Tariff Act of 1930, as amended, (19 U.S.C. 1641) and the Customs Regulations (19 CFR 111.51), the following Customs broker license and any and all associated local and national permits are canceled without prejudice.

Name | License # | Issuing port
Beluga International Company | 16842 | Tampa.
Serko & Simon International Trade Services, Inc | 20949 | New York.
Yamato Customs Brokers USA, Inc | 9198 | Los Angeles.
Suarez International, Inc | 11763 | Nogales.
Jeffrey E. Brown | 9703 | Boston.
James B. Fong | 3248 | San Francisco.
Northwest Customs Brokers, Inc | 15651 | Seattle.

Dated: March 11, 2003.
Jayson P. Ahern,
Assistant Commissioner, Office of Field Operations.

[FR Doc. 03-7725 Filed 3-31-03; 8:45 am]

BILLING CODE 4820-02-P